DEPARTMENT OF COMMERCE

Minority Business Development Agency

Request for Tribal Consultation on the Minority Business Development Agency's (MBDA) Native American Business Enterprise Center (NABEC) Program; Notice of Public Webinars

AGENCY: Department of Commerce.

ACTION: Meeting Notice.

SUMMARY: The Department of Commerce's (Department) Minority Business Development Agency (MBDA) seeks to redesign its Native American Business Center (NABEC) program. The NABEC program is a key component of MBDA's business development assistance program and promotes the growth and competitiveness of eligible Native American and minority-owned businesses. As part of the NABEC program, businesses that are owned or controlled by the following persons or groups of persons are eligible to receive business assistance services: American Indians and Native Americans (including Alaska Natives, Alaska Native Corporations, Tribal entities, tribal universities and tribal governments), African Americans, Asian Indian Americans, Asian and Pacific Islander Americans, Hasidic Jewish Americans, and Hispanic Americans.

The MBDA will conduct two webinars, on March 13 and 15, 2012, to seek input and recommendations from tribal organizations and tribal governments on the proposed redesign of the NABEC program. MBDA has planned a more cohesive program involving collaboration among the NABECs and Minority Business Enterprises (MBEs) to achieve the same program goals, and to expand and promote export initiatives and international trade opportunities aligned with President Obama's National Export Initiative (NEI).

DATES: Webinars will be held on the following dates and times: March 13, 2012, 3 p.m.-4 p.m. EDT; and March 15, 2012 at 3 p.m.-4 p.m. EDT. Registration information is provided in SUPPLEMENTARY INFORMATION.

FOR FURTHER INFORMATION CONTACT: Dee Alexander, Senior Advisor on Native American Affairs, Office of Legislative and Intergovernmental Affairs, Department of Commerce, 1401 Constitution Avenue NW., Room 5422, Washington, DC 20230, by telephone at (202) 482-0789, or by email at dalexander@doc.gov. You may also contact Holden Hoofnagle, Chief of the MBDA Office of Business Development, by telephone at (202) 482-3937, or by email at hhoofnagle@mbda.gov.

SUPPLEMENTARY INFORMATION:

I. Background

Pursuant to Executive Order 11625, MBDA was created specifically to foster the establishment and growth of MBEs. MBDA promotes the strategic growth and expansion of MBEs by offering management and technical assistance through a nationwide network of 40 business centers. Among the 40 business centers, there are six NABECs and one satellite office specifically designed to serve the Native American and Alaska Native population providing overall business development assistance services and promoting the growth and competitiveness of eligible Native American and minority-owned businesses. The NABECs are located in the following cities: Mesa, Arizona; El Monte, California; Albuquerque, New Mexico; Tulsa, Oklahoma; Seattle, Washington; Bismarck, North Dakota; and Anchorage, Alaska (satellite office). Each NABEC has a designated geographic area surrounding the state in which it is located, with the following exceptions: the NABEC in Seattle, Washington covers the states of Washington, Oregon, and Idaho; and the NABEC in Bismarck, North Dakota covers the states of North Dakota and South Dakota. The Anchorage, Alaska satellite office is operated from the NABEC located in Mesa, Arizona.

The NABEC services include, but are not limited to, initial consultations and assessments, business technical assistance, education, and access to federal and non-federal procurement and financing opportunities. Specific performance requirements and metrics are used by MBDA to evaluate each project and become a key component of the NABEC program. More information on the NABEC programs can be found on MBDA's Web site at http://www.mbda.gov/main/grantcompetitions.

Under the current program, federal funding for centers ranges from $200,000 to $297,500 and each center has a required cost share of 10 percent of total project cost. All six centers are under three-year cooperative agreements which expire in August 2012. MBDA expects to redesign the current NABEC program with an anticipated start date of September 1, 2012.

The Department's Tribal Consultation Official and Senior Advisor on Native American Affairs, Dee Alexander, will coordinate and schedule tribal consultations in conjunction with the MBDA Office of Business Development (OBD) regarding the business development services available to Native American organizations through MBDA. MBDA has designed the webinars, as part of the tribal consultation schedule, to allow tribal governments and organizations an opportunity to provide information into the planned redesign of the current NABEC program. MBDA intends that the new program will be more cohesive and compatible for collaboration among the funded Centers so the Centers can achieve their program goals, expand operations, and participate in export initiatives and international deals aligned with President Obama's National Export Initiative (NEI).

II. Registration

Participants may register for the webinars online using the links provided below. The registration links may also be found on MBDA's Web site at www.mbda.gov.

• March 13, 2012, 3 p.m.-4 p.m. EDT. Webinar registration site: https://www.mymeetings.com/nc/join.php?i=PW6862819&p=7403577&t=c.

• March 15, 2012, 3 p.m.-4 p.m. EDT. Webinar registration site: https://www.mymeetings.com/nc/join.php?i=PW6862819&p=7403577&t=c.

If there are specific questions you would like MBDA to address during the webinars, please send your question(s) to MBDA no later than March 12, 2012. There will be time for questions from the participants at the end of each Webinar.

Dated: March 8, 2012.
Josephine Arnold,
Chief Counsel, Minority Business Development Agency.

[FR Doc. 2012-6087 Filed 3-13-12; 8:45 am]

BILLING CODE 3510-21-P